DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmosphere Administration (NOAA).

Title: Southeast Region Permit Family of Forms.

Form Number(s): None.

OMB Approval Number: 0648-0205.

Type of Request: Regular submission.

Burden Hours: 15,670.

Number of Respondents: 16,820.

Average Hours per Response: Vessel monitoring system (VMS) maintenance, 2 hours; VMS position reports, 14 minutes; dealer permit applications, 5 minutes; operator card applications, 1 hour; vessel permit applications and endorsements, 20 minutes; rock shrimp non-renewed endorsement requests, 2 hours; trap retrieval authorization notification, 15 minutes; notification of lost traps, 5 minutes; request for observer, 5 minutes; live rock site evaluation report, 45 minutes; shrimp annual landings report, 5 minutes; permit transfer notarization, 20 minutes; shrimp moratorium basis of eligibility for permit, 1 minute.

Needs and Uses: The participants in the federally-regulated fisheries in the Exclusive Economic Zone of the South Atlantic, Gulf of Mexico, and Carribean are required to obtain federal permits under the existing permit program for the specific Fishery Management Plans of each region. NOAA Fisheries Service needs information from the applications and associated data collections to identify fishing vessels/dealers/participants, properly manage the fisheries, and generate fishery-specific data.

Affected Public: Business or other for-profit organizations.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov.)

Written comments and recommendations for the proposal information collection should be sent within 30 days of publication of this notice to David Rostker, OMB Desk Officer, FAX number (202) 395-7285, or David_Rostker@omb.eop.gov.

Dated: September 11, 2006.
Gwellnar, Banks,
Management Analyst, Office of the Chief Information Officer.

[FR Doc. 06-7679 Filed 9-14-06; 8:45 am]

BILLING CODE 3510-22-M